DEPARTMENT OF TRANSPORTATION

14 CFR Part 71

[Airspace Docket No. 01-AGL-08]

Proposed Modification of Class E Airspace; Frankfort, MI; Correction

AGENCY: Federal Aviation Administration (FAA), DOT.

ACTION: Notice of proposed rulemaking; correction.

SUMMARY: This action corrects the docket number and four errors in the legal description of a NPRM that was published in the Federal Register on Monday, January 7, 2002 (67 FR 705). The NPRM proposed to modify Class E Airspace at Frankfort, MI.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register document 02-250 published on Monday, January 7, 2002 (67 FR 705), proposed to modify Class E Airspace at Frankfort, MI. An incorrect Airspace Docket No. 00-AGL-08 was assigned to the proposal, and in addition, the following errors were contained in the legal description: Incorrect longitude for the Frankfort Dow Memorial Field Airport, an incorrect MBL VOR/DME radial was used to describe the extension, and the latitude and longitude for the MBL VOR/DME was omitted. This action corrects these errors.

Accordingly, pursuant to the authority delegated to me, the errors for the Class E Airspace, Frankfort, MI, as published in the Federal Register Monday, January 7, 2002 (67 FR 705), (FR Doc. 02-250), are corrected as follows:

1. On page 705, column 2, in the heading, and column 3, under “Comments Invited”, correct the Airspace Docket No. to read “01-AGL-08.”

§ 71.1 [corrected]

2. On page 706, column 2, correct the legal description of the airspace designation as follows:

a. Add the following immediately below “AGL MI E5 Frankfort, MI [REVISED]”: Manistee VOR/DME

(Lat. 44°16′14″ N., long 86°15′14″ W.)

b. Correct the Frankfort Dow Memorial Field Airport longitude to read:

“Long. 86°12′02″ W.”

c. Correct “Manistee VOR/DME 186° radial” to read “Manistee VOR/DME 006° radial.”

Issued in Des Plaines, Illinois on February 6, 2002.
Richard K. Petersen,
Assistant Manager, Air Traffic Division, Great Lakes Region.

[FR Doc. 02-5119 Filed 3-21-02; 8:45 am]

BILLING CODE 4910-13-M